DEPARTMENT OF COMMERCE

Bureau of Export Administration

15 CFR Parts 734, 738, 740, 742, 743, 744, 748 and 774

[Docket No. 000204027-0027-01]

RIN 0694-AC14

Revisions to License Exception CTP

AGENCY: Bureau of Export Administration, Commerce.

ACTION: Final rule.

SUMMARY: The Bureau of Export Administration (BXA) is amending the Export Administration Regulations (EAR) by revising License Exception CTP to reflect continuing technological advancement in the computer industry. Accordingly, High Performance Computers (HPCs) with a composite theoretical performance (CTP) of up to 33,000 millions of theoretical operations per second (MTOPS) can be exported to Computer Tier 2 countries, and HPCs with a CTP up to 20,000 MTOPS can be exported to civilian end-users and end-uses in Computer Tier 3 destinations under License Exception CTP. For military end-users and end-uses in Computer Tier 3 countries, the CTP limit remains at 6,500 MTOPS until August 14, 2000, when it is raised to 12,500 MTOPS. This coincides with the date this rule raises the advance notification level for HPC exports to Computer Tier 3 countries to 12,500 MTOPS. As required by the National Defense Authorization Act of 1998 (NDAA), changes in the advance notification level for HPC exports to Tier 3 destinations are only effective 180 days following the submission of a report to Congress. This report was sent to Congress on February 16, 2000. This rule also moves Romania from Computer Tier 3 to Computer Tier 2, effective June 15, 2000, and links the level of HPCs requiring post-shipment verification reporting to the advance notification level for HPC exports to Computer Tier 3 destinations. This rule also revises the Commerce Control List (CCL) to liberalize the national security thresholds for digital computers to conform with recently agreed changes in the Wassenaar List of Dual-Use Goods and Technologies, and corrects/updates the mailing address for submission of post-shipment reports.

DATES: This rule is effective March 10, 2000.

FOR FURTHER INFORMATION CONTACT: James A. Lewis, Office of Strategic Trade and Foreign Policy Controls, Bureau of Export Administration, Telephone: (202) 482-0092.

SUPPLEMENTARY INFORMATION:

Background

On February 1, 2000, the President announced significant changes to export control policy for HPCs. The new policy continues the Administration's commitment, as announced on July 1, 1999, to review and update its HPC policy every 6 months to reflect rapid advancements in microprocessor technology, as well as identify any risk posed by HPC exports to certain end-users and countries. This policy strengthens America's high-tech competitiveness, while maintaining export controls to protect U.S. national security.

The Administration, in consultation with the national security community and industry, has determined the following adjustments are warranted. Effective immediately, the upper License Exception CTP level for Computer Tier 2 countries is raised from 20,000 to 33,000 MTOPS and the upper License Exception CTP level for civil end-users and civil end-uses in Computer Tier 3 countries is raised from 12,300 to 20,000 MTOPS. For military end-users and end-uses in Computer Tier 3 countries, the upper CTP level remains at 6,500 MTOPS until August 14, 2000, when it is raised to 12,500 MTOPS. This coincides with the date this rule raises the advance notification level for HPC exports to Computer Tier 3 countries from 6,500 to 12,500 MTOPS. As required by the NDAA, changes in the advance notification level for HPC exports to Tier 3 destinations are only effective 180 days following the submission of a report to Congress. This report was sent to Congress on February 16, 2000. This new advance notification level reflects the Administration's determination that widespread commercial availability of computers with performance capabilities up to 12,500 MTOPS makes that a realistic and enforceable level.

This rule removes Romania from Computer Tier 3 and places it in Computer Tier 2. However, due to requirements in the 1998 NDAA, removing Romania from Computer Tier 3 is not effective until 120 days after the Congress receives a report justifying such a removal. On February 16, 2000, the President informed the Congress of his intent to remove Romania from Computer Tier 3; thus, Romania will be moved to Computer Tier 2 effective June 15, 2000.

This rule also links the performance level of HPCs requiring post-shipment verification reporting to the advance notification level for HPC exports to Computer Tier 3 destinations. This change implements Section 1407(c) of the National Defense Authorization Act for Fiscal Year 2000 (P.L. 106-65, October 5, 1999), which amended Section 1213(e) of the NDAA for FY98. As a result, post-shipment verification reporting is required for exports of computers with a CTP greater than 6,500 MTOPS to Computer Tier 3 destinations made on or after January 23, 2000. Post-shipment verification reporting is required for exports of computers with a CTP greater than 12,500 MTOPS to Computer Tier 3 destinations made on or after August 14, 2000.

In addition, this rule amends Export Control Classification Number (ECCN) 4A003 by increasing the control level for digital computers from 2,000 to 6,500 MTOPS to conform with recently agreed changes in the Wassenaar List of Dual-Use Goods and Technologies. To fulfill U.S. commitments to the Wassenaar Arrangement with regard to dual-use items, this final rule also revises the reporting requirements for exports of digital computers controlled under the Wassenaar Arrangement and by conforming § 740.7 (License Exception CTP) and § 742.12 (High Performance Computers) to be consistent with the recently agreed national security levels for digital computers.

Finally, this rule makes conforming changes in parts 734, 738, 742, 744 and 748.

Due to rapid advancement in HPC and microprocessor technology, the United States will routinely review these levels to determine if further adjustments are warranted. In particular, agencies will review control levels by April 2000 to determine if further changes are warranted; additional countries may also be moved between tiers.

Although the Export Administration Act (EAA) expired on August 20, 1994, the President invoked the International Emergency Economic Powers Act and continued in effect the EAR, and to the extent permitted by law, the provisions of the EAA, as amended, in Executive Order 12924 of August 19, 1994, as extended by the President's notices of August 15, 1995 (60 FR 42767), August 14, 1996 (61 FR 42527), August 13, 1997 (62 FR 43629), August 13, 1998 (63 FR 44121), and August 13, 1999 (64 FR 44101).

Rulemaking Requirements

1. This final rule has been determined to be significant for purposes of E.O. 12866.

2. Notwithstanding any other provision of law, no person is required to respond to nor be subject to a penalty for failure to comply with a collection of information subject to the requirements of the Paperwork Reduction Act unless that collection of information displays a current valid OMB Control Number. This regulation involves collections previously approved by the Office of Management and Budget under control numbers 0694-0088, “Multi-Purpose Application,” which carries a burden hour estimate of 45 minutes per manual submission and 40 minutes per electronic submission. Miscellaneous and recordkeeping activities account for 12 minutes per submission. Information is also collected under OMB control number 0694-0107, “National Defense Authorization Act,” Advance Notifications and Post-Shipment Verification Reports, which carries a burden hour estimate of 15 minutes per report. Information is also collected under OMB control number 0694-0106, “Reporting and Recordkeeping Requirements under the Wassenaar Arrangement EAR Section 743”, which carries a burden hour estimate of 11 minutes per report. This rule also involves collections of information under OMB control number 0694-0073, “Export Controls of High Performance Computers” and OMB control number 0694-0093, “Import Certificates and End-User Certificates”.

3. This rule does not contain policies with Federalism implications sufficient to warrant preparation of a Federalism assessment under Executive Order 13132.

4. The provisions of the Administrative Procedure Act requiring notice of proposed rule making, the opportunity for public participation, and a delay in effective date, are inapplicable because this regulation involves a military or foreign affairs function of the United States (see 5 U.S.C. 553(a)(1)). Further, no other law requires that a notice of proposed rule making and an opportunity for public comment be given for this rule. Because a notice of proposed rule making and opportunities for public comment are not required to be given for this rule by 5 U.S.C. 553, or by any other law, the analytical requirements of the Regulatory Flexibility Act, 5 U.S.C. 601 et seq., are inapplicable.

Therefore, this regulation is issued in final form. Although there is no formal comment period, public comments on this regulation are welcome on a continuing basis. Comments should be submitted to Office of Exporter Services, Bureau of Export Administration, Department of Commerce, P.O. Box 273, Washington, D.C. 20044.

List of Subjects

15 CFR Parts 734 and 738

Administrative practice and procedure, Exports, Foreign trade.

15 CFR Parts 740, 743 and 748

Administrative practice and procedure, Exports, Foreign trade, Reporting and record keeping requirements.

15 CFR Part 742

Exports, Foreign trade.

15 CFR Parts 744 and 774

Exports, Foreign trade, Reporting and recordkeeping requirements.

Accordingly, parts 734, 738, 740, 742, 743, 744, 748 and 774 of the Export Administration Regulations (15 CFR Parts 730-774) are amended as follows:

1. The authority citation for 15 CFR part 734 continues to read as follows:

Authority: 50 U.S.C. app. 2401 et seq.; 50 U.S.C. 1701 et seq.; E.O. 12924, 59 FR 43437, 3 CFR, 1994 Comp., p. 917; E.O. 12938, 59 FR 59099, 3 CFR, 1994 Comp., p. 950; E.O. 13020, 61 FR 54079, 3 CFR, 1996 Comp. p. 219; E.O. 13026, 61 FR 58767, 3 CFR, 1996 Comp., p. 228; Notice of November 12, 1998, 63 FR 63589, 3 CFR, 1998 Comp., p. 305; Notice of August 10, 1999, 64 FR 44101 (August 13, 1999).

2. The authority citation for 15 CFR Part 738 continues to read as follows:

Authority: 50 U.S.C. app. 2401 et seq.; 50 U.S.C. 1701 et seq.; 10 U.S.C. 7420; 10 U.S.C. 7430(e); 18 U.S.C. 2510 et seq.; 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; E.O. 12924, 59 FR 43437, 3 CFR, 1994 Comp., p. 917; E.O. 13026, 61 FR 58767, 3 CFR, 1996 Comp., p. 228; Notice of August 10, 1999, 64 FR 44101 (August 13, 1999).

3. The authority citation for 15 CFR Part 740 continues to read as follows:

Authority: 50 U.S.C. app. 2401 et seq.; 50 U.S.C. 1701 et seq.; E.O. 12924, 59 FR 43437, 3 CFR, 1994 Comp., p. 917; E.O. 13026, 61 FR 58767, 3 CFR, 1996 Comp., p. 228; Notice of August 10, 1999, 64 FR 44101 (August 13, 1999).

4. The authority citation for 15 CFR Part 742 continues to read as follows:

Authority: 50 U.S.C. app. 2401 et seq.; 50 U.S.C. 1701 et seq.; 18 U.S.C. 2510 et seq.; 22 U.S.C. 3201 et seq.; 42 U.S.C. 2139a; E.O. 12058, 43 FR 20947, 3 CFR, 1978 Comp., p. 179; E.O. 12851, 58 FR 33181, 3 CFR, 1993 Comp., p. 608; E.O. 12924, 59 FR 43437, 3 CFR, 1994 Comp., p. 917; E.O. 12938, 59 FR 59099, 3 CFR, 1994 Comp., p. 950; E.O. 13026, 61 FR 58767, 3 CFR, 1996 Comp., p. 228; Notice of November 12, 1998, 63 FR 63589, 3 CFR, 1998 Comp., p. 305; Notice of August 10, 1999, 64 FR 44101 (August 13, 1999).

5. The authority citation for 15 CFR part 743 continues to read as follows:

Authority: 50 U.S.C. app. 2401 et seq.; 50 U.S.C. 1701 et seq.; E.O. 12924, 59 FR 43437, 3 CFR, 1994 Comp., p. 917; Notice of August 10, 1999, 64 FR 44101 (August 13, 1999).

6. The authority citation for 15 CFR part 744 is revised to read as follows:

Authority: 50 U.S.C. app. 2401 et seq., 1701 et seq.; 22 U.S.C. 3201 et seq.; 42 U.S.C. 2139a; E.O. 12058, 43 FR 20947, 3 CFR, 1978 Comp., p. 179; E.O. 12851, 58 FR 33181, 3 CFR, 1993 Comp., p. 608; E.O. 12924, 59 FR 43437, 3 CFR, 1994 Comp., p. 917; E.O. 12938, 59 FR 59099, 3 CFR, 1994 Comp., p. 950; Notice of August 15, 1995 (60 FR 42767, August 17, 1995); Notice of August 14, 1996 (61 FR 42527); Notice of August 13, 1997 (62 FR 43629, August 15, 1997); Notice of August 10, 1999, 64 FR 44101 (August 13, 1999).

7. The authority citation for 15 CFR part 748 continues to read as follows:

Authority: 50 U.S.C. app. 2401 et seq.; 50 U.S.C. 1701 et seq.; E.O. 12924, 59 FR 43437, 3 CFR, 1994 Comp., p. 917; E.O. 13026, 61 FR 58767, 3 CFR, 1996 Comp., p. 228; Notice of August 10, 1999, 64 FR 44101 (August 13, 1999).

8. The authority citation for part 774 continues to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; E.O. 12924, 59 FR 43437, 3 CFR, 1994 Comp., p. 917; E.O. 13026, 61 FR 58767, 3 CFR, 1996 Comp., p. 228; Notice of August 10, 1999, 64 FR 44101 (August 13, 1999).

PART 734—[AMENDED]

§ 734.4 [Amended]

9. Section 734.4 is amended by revising the phrase “12,300 MTOPS” in paragraph (a) to read “20,000 MTOPS”.

PART 738—[AMENDED]

10. Supplement No. 1 to Part 738 is amended by revising the phrase “greater than 20,000 MTOPS” in the second footnote to read “greater than 33,000 MTOPS”.

PART 740—[AMENDED]

11. Section 740.7 is amended by:

a. Adding a sentence at the end of paragraph (c)(1) and adding two sentences at the end of paragraph (d)(1); and

b. Revising paragraphs (b)(2), (c)(2), (d)(2), (d)(5)(i), (d)(5)(v), introductory text (d)(5)(v)(B)(1), and (d)(5)(v)(B)(2) to read as follows:

§ 740.7 Computers (CTP).

* * * * *

(b) * * *

(2) Eligible Computers. The computers eligible for License Exception CTP to Tier 1 destinations are those having a Composite Theoretical Performance (CTP) greater than 6,500 Millions of Theoretical Operations Per Second (MTOPS).

* * * * *

(c) * * *

(1) Eligible Countries. * * * As of June 15, 2000, Romania is a Computer Tier 2 country.

(2) Eligible computers. The computers eligible for License Exception CTP to Tier 2 destinations are those having a CTP greater than 6,500 MTOPS, but less than or equal to 33,000 MTOPS.

(d) * * *

(1) Eligible Countries. * * * Until June 14, 2000, Romania is a Computer Tier 3 country. As of June 15, 2000, Romania is moved to Computer Tier 2.

(2) Eligible computers. Computers with a CTP greater than 6,500 MTOPS, but less than or equal to 20,000 MTOPS, are eligible for License Exception CTP to civil end-users and end-uses. Beginning on August 14, 2000, computers having a CTP greater than 6,500 MTOPS, but less than or equal to 12,500 MTOPS, are eligible for License Exception CTP to military end-users and end-uses subject to the restrictions in paragraph (d)(3) of this section.

* * * * *

(5) NDAA notification. (i) General requirement. The National Defense Authorization Act (NDAA) of FY98 enacted on November 18, 1997 requires advance notification of certain exports and reexports of computers to Computer Tier 3 countries. Prior to August 14, 2000, advance notification is required for all exports and reexports of computers with a CTP greater than 6,500 but less than or equal to 20,000 MTOPS to Computer Tier 3 destinations. Beginning on August 14, 2000, advance notification is required for all exports and reexports of computers with a CTP greater than 12,500 but less than or equal to 20,000 MTOPS to Computer Tier 3 destinations. For each such transaction destined to Computer Tier 3, prior to using License Exception CTP, you must first notify BXA by submitting a completed Multipurpose Application Form (BXA-748P). The Multipurpose Application Form must be completed including all information required for a license application according to the instructions described in Supplement No. 1 to part 748 of the EAR, with two exceptions. You (the applicant as listed in Block 14) shall in Block 5 (Type of Application) mark the box “Other.” This designator will permit BXA to route the NDAA notice into a special processing procedure. (Blocks 6 and 7, regarding support documentation, may be left blank.) You must also provide a notice using this procedure prior to exporting or reexporting items that you know will be used to enhance beyond 6,500 MTOPS the CTP of a previously exported or reexported computer. Beginning on August 14, 2000, you must provide a notice using this procedure prior to exporting or reexporting items that you know will be used to enhance beyond 12,500 MTOPS the CTP of a previously exported or reexported computer. BXA will not initiate the registration of an NDAA notice unless all information on the Multipurpose Application form is complete.

* * * * *

(v) Post-shipment verification. This section outlines special post-shipment reporting requirements for exporters of certain computers to destinations in Computer Tier 3. Exporters must file post-shipment reports for computer exports, as well as exports of items used to enhance previously exported or reexported computers, according to the following schedule: for exports occurring on or after February 3, 1998, but on or before January 22, 2000, reports are required for computers with a CTP greater than 2,000 MTOPS; for exports occurring on or after January 23, 2000, but on or before August 13, 2000, reports are required for computers with a CTP greater than 6,500 MTOPS; and for exports occurring on or after August 14, 2000, reports are required for computers with a CTP greater than 12,500 MTOPS. Post-shipment reports must be submitted in accordance with the provisions of this paragraph (d)(5)(v), and all relevant records of such exports must be kept in accordance with part 762 of the EAR.

(A) * * *

(B) * * *

(1) For deliveries by U.S. postal service: Bureau of Export Administration, U.S. Department of Commerce, P.O. Box 273, Attn: Office of Enforcement Analysis HPC Team, Room 4065, Washington, D.C. 20044.

(2) For courier deliveries: U.S. Department of Commerce, Office of Enforcement Analysis HPC Team, Room 4065, 14th Street and Constitution Ave. NW, Washington, DC 20230.

* * * * *

§ 740.11 [Amended]

12. Section 740.11 is amended by revising the phrase “20,000 MTOPS” in paragraphs (a)(2)(ii) and (iii) and in paragraph (c)(2)(i) to read “33,000 MTOPS”.

13. Supplement No. 1 to section 740.11 is amended by revising the phrase “20,000 MTOPS” in paragraphs (a)(1)(ii), (a)(1)(iii), (b)(1)(ii), and (b)(1)(iii) to read “33,000 MTOPS”.

PART 742—[AMENDED]

14. Section 742.12 is amended by revising the phrase “greater than 2000” in paragraph (a)(1) to read “greater than 6,500”; revising the phrase “4,000 MTOPS” in paragraph (a)(3) to read “6,500 MTOPS”; revising the phrase “greater than 20,000” in paragraph (b)(2)(i) to read “greater than 33,000” ; revising the phrase “2,000 MTOPS” in paragraphs (b)(3)(i)(A), (b)(3)(iii), and (b)(3)(iv) to read “6,500 MTOPS” wherever it occurs; and by revising paragraphs (b)(3)(i)(B), (b)(3)(i)(C), (b)(3)(iv) introductory text, (b)(3)(iv)(B)(1), and (b)(3)(iv)(B)(2) to read as follows:

* * * * *

§ 742.12 High Performance Computers

* * * * *

(b) * * *

(3) * * *

(i) * * *

(B) A license is required to export or reexport computers with a CTP greater than 20,000 MTOPS for civilian end-users and end-uses in countries in Computer Tier 3. Prior to August 14, 2000, a license is required to export or reexport computers having a CTP greater than 6,500 MTOPS to military end-users and end-uses in Computer Tier 3. Beginning on August 14, 2000, a license is required to export or reexport computers having a CTP greater than 12,500 MTOPS to military end-users and end-uses in Computer Tier 3.

(C) Prior to August 14, 2000, a license may be required to export or reexport computers with a CTP greater than 6,500 MTOPS to countries in Computer Tier 3 pursuant to the NDAA (see § 740.7(d)(5) of the EAR). Beginning on August 14, 2000, a license may be required to export or reexport computers with a CTP greater than 12,500 MTOPS to countries in Computer Tier 3 pursuant to the NDAA (see § 740.7(d)(5) of the EAR).

(ii) * * *

(iii) * * *

(iv) Post-shipment verification. This section outlines special post-shipment reporting requirements for exporters of certain computers to destinations in Computer Tier 3. Exporters must file post-shipment reports for computer exports, as well as exports of items used to enhance previously exported or reexported computers, according to the following schedule: for exports occurring on or after February 3, 1998, but on or before January 22, 2000, reports are required for computers with a CTP greater than 2,000 MTOPS; for exports occurring on or after January 23, 2000, but on or before August 13, 2000, reports are required for computers with a CTP greater than 6,500 MTOPS; and for exports occurring on or after August 14, 2000, reports are required for computers with a CTP greater than 12,500 MTOPS. Post-shipment reports must be submitted in accordance with the provisions of this paragraph (b)(3)(iv), and all relevant records of such exports must be kept in accordance with part 762 of the EAR.

(A) * * *

(B) * * *

(1) For deliveries by U.S. postal service: Bureau of Export Administration, U.S. Department of Commerce, P.O. Box 273, Attn: Office of Enforcement Analysis HPC Team, Room 4065, Washington, D.C. 20044.

(2) For courier deliveries: U.S. Department of Commerce, Office of Enforcement Analysis HPC Team, Room 4065, 14th Street and Constitution Ave. NW, Washington, DC 20230.

* * * * *

PART 743—[AMENDED]

15. Section 743.1 is amended by removing and reserving paragraph (e)(2); and by revising paragraph (c)(2) (the note is unchanged), as follows:

§ 743.1 Wassenaar Arrangement.

* * * * *

(c) * * *

(2) Reports for “digital computers” and “electronic assemblies” controlled under ECCN 4A003.b and .c are required only for computers with a composite theoretical performance (CTP) exceeding 6,500 MTOPS or computer enhancements thereof such that the CTP exceeds 6,500 MTOPS. Records for software controlled by 4D001 are required for software specially designed for the development or production of computers having a CTP exceeding 6,500 MTOPS. For the calculation of CTP, see the Technical Note for Category 4 in the Commerce Control List (Supplement No. 2 to part 774 of the EAR).

* * * * *

PART 744—[AMENDED]

16. Supplement No. 4 to part 744 is amended by revising the phrase “For computers between 2,000 and 7,000 MTOPS” in the License requirement column for the Israeli entity “Ben Gurion University, Israel” to read “For computers above the Tier 3 military level described in § 742.12(b)(3)(i)(B)”.

PART 748—[AMENDED]

17. Section 748.10 is amended by revising paragraphs (b)(3) and (b)(4) introductory text as follows:

§ 748.10 Import and End-User Certificates.

* * * * *

(b) * * *

(3) Your transaction involves an export to the People's Republic of China of a computer, you must obtain a PRC End-User Certificate, regardless of dollar value, as follows:

(i) For license applications submitted on or before August 13, 2000, a PRC End-User Certificate is required for computers with a Composite Theoretical Performance (CTP) greater than 6,500 Million Operations Per Second (MTOPS) and for license applications submitted on or after August 14, 2000, a PRC End-User Certificate is required for computers with a CTP greater than 12,500 MTOPS;

(ii) For exports under License Exception CTP occurring on or before August 13, 2000, a PRC End-User Certificate is required for computers with a CTP of greater than 6,500 MTOPS and for such exports occurring on or after August 14, 2000, a PRC End-User Certificate is required for computers with a CTP greater than 12,500.

(4) Your license application involves the export of commodities and software classified in a single entry on the CCL, the total value of which exceeds $5,000. Note that this $5,000 threshold does not apply to exports to the People's Republic of China of computers subject to the provisions of § 748.10(b)(3).

* * * * *

PART 774—[AMENDED]

18. In Supplement No. 1 to part 774 (the Commerce Control List), Category 4—Computers is amended by revising Export Control Classification Number (ECCN) 4A003, to read as follows:

4A003 “Digital computers”, “electronic assemblies”, and related equipment therefor, and specially designed components therefor.

License Requirements

Reason for Control: NS, MT, CC, AT, NP, XP

Control(s) | Country chart
NS applies to 4A003.b and .c | NS Column 1.
NS applies to 4A003.a, d, .e, and .g | NS Column 2.
MT applies to digital computers used as ancillary equipment for test facilities and equipment that are controlled by 9B005 or 9B006 | MT Column 1.
CC applies to digital computers for computerized finger-print equipment | CC Column 1.
AT applies to entire entry (refer to 4A994 for controls on digital computers with a CTP ≥ 6 but ≤ to 6,500 Mtops) | AT Column 1.
NP applies to digital computers with a CTP greater than 6,500 Mtops, unless a License Exception is available. See § 742.3(b) of the EAR for information on applicable licensing review policies.
XP applies to digital computers with a CTP greater than 6,500 Mtops, unless a License Exception is available. XP controls vary according to destination and end-user and end-use. See § 742.12 of the EAR for additional information.

Note: For all destinations, except Cuba, Iran, Iraq, Libya, North Korea, Sudan, and Syria, no license is required (NLR) for computers with a CTP greater than 6,500 Mtops, and for assemblies described in 4A003.c that are not capable of exceeding a CTP greater than 6,500 Mtops in aggregation. Computers controlled in this entry for MT reasons are not eligible for NLR.

License Requirement Notes: See § 743.1 of the EAR for reporting requirements for exports under License Exceptions.

License Exceptions

LVS: $5000; N/A for MT and “digital” computers controlled by 4A003.b and having a CTP exceeding 10,000 MTOPS; or “electronic assemblies” controlled by 4A003.c and capable of enhancing performance by aggregation of “computing elements” so that the CTP of the aggregation exceeds 10,000 MTOPS.

GBS: Yes, for 4A003.d, .e, and .g and specially designed components therefor, exported separately or as part of a system.

CTP: Yes, for computers controlled by 4A003.a, .b and .c, to the exclusion of other technical parameters, with the exception of parameters specified as controlled for Missile Technology (MT) concerns and 4A003.e (equipment performing analog-to-digital or digital-to-analog conversions exceeding the limits of 3A001.a.5.a). See § 740.7 of the EAR.

CIV: Yes, for 4A003.d (having a 3-D vector rate less than 75 M vectors/sec), .e, and .g.

List of Items Controlled

Unit: Equipment in number; parts and accessories in $ value.

Related Controls: See also 4A994 and 4A980.

Related Definitions: N/A.

Items:

Note 1: 4A003 includes the following:

a. Vector processors;

b. Array processors;

c. Digital signal processors;

d. Logic processors;

e. Equipment designed for “image enhancement”;

f. Equipment designed for “signal processing”.

Note 2: The control status of the “digital computers” and related equipment described in 4A003 is determined by the control status of other equipment or systems provided:

a. The “digital computers” or related equipment are essential for the operation of the other equipment or systems;

b. The “digital computers” or related equipment are not a “principal element” of the other equipment or systems; and

N.B. 1: The control status of “signal processing” or “image enhancement” equipment specially designed for other equipment with functions limited to those required for the other equipment is determined by the control status of the other equipment even if it exceeds the “principal element” criterion.

N.B. 2: For the control status of “digital computers” or related equipment for telecommunications equipment, see Category 5, Part 1 (Telecommunications).

c. The “technology” for the “digital computers” and related equipment is determined by 4E.

a. Designed or modified for “fault tolerance”;

Note: For the purposes of 4A003.a., “digital computers” and related equipment are not considered to be designed or modified for “fault tolerance” if they utilize any of the following:

1. Error detection or correction algorithms in “main storage”;

2. The interconnection of two “digital computers” so that, if the active central processing unit fails, an idling but mirroring central processing unit can continue the system's functioning;

3. The interconnection of two central processing units by data channels or by use of shared storage to permit one central processing unit to perform other work until the second central processing unit fails, at which time the first central processing unit takes over in order to continue the system's functioning; or

4. The synchronization of two central processing units by “software” so that one central processing unit recognizes when the other central processing unit fails and recovers tasks from the failing unit.

b. “Digital computers” having a “composite theoretical performance” (“CTP”) exceeding 6,500 million theoretical operations per second (Mtops);

c. “Electronic assemblies” specially designed or modified to be capable of enhancing performance by aggregation of “computing elements” (“CEs”) so that the “CTP” of the aggregation exceeds the limit in 4A003.b.;

Note 1: 4A003.c applies only to “electronic assemblies” and programmable interconnections not exceeding the limit in 4A003.b. when shipped as unintegrated “electronic assemblies”. It does not apply to “electronic assemblies” inherently limited by nature of their design for use as related equipment controlled by 4A003.d, or 4A003.e

Note 2: 4A003.c does not control “electronic assemblies” specially designed for a product or family of products whose maximum configuration does not exceed the limit of 4A003.b.

d. Graphics accelerators and graphics coprocessors exceeding a “three dimensional Vector Rate” of 3,000,000;

e. Equipment performing analog-to-digital conversions exceeding the limits in 3A001.a.5;

f. Reserved.

g. Equipment specially designed to provide external interconnection of “digital computers” or associated equipment that allows communications at data rates exceeding 80 Mbyte/s.

Note: 4A003.g does not control internal interconnection equipment (e.g., backplanes, buses) passive interconnection equipment, “network access controllers” or “communication channel controllers”.

Dated: March 2, 2000.
Iain S. Baird,
Deputy Assistant Secretary for Export Administration.

[FR Doc. 00-5516 Filed 3-9-00; 8:45 am]

BILLING CODE 3510-33-P